DEPARTMENT OF THE INTERIOR

National Park Service

[NPS-WASO-NAGPRA-NPS0034483; PPWOCRADN0-PCU00RP14.R50000]

Notice of Inventory Completion: Kodiak Historical Society, Kodiak, AK

AGENCY: National Park Service, Interior.

ACTION: Notice.

SUMMARY: The Kodiak Historical Society (operating as the Kodiak History Museum) has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Kodiak Historical Society. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Kodiak Historical Society at the address in this notice by October 12, 2022.

FOR FURTHER INFORMATION CONTACT: Margaret Greutert, Collections Manager, Kodiak Historical Society dba Kodiak History Museum, 101 E Marine Way, Kodiak, AK 99615, telephone (907) 486-5917, email collections@kodiakhistorymuseum.org or director@kodiakhistorymuseum.org.

SUPPLEMENTARY INFORMATION: Notice is here given in accordance with the Native American Graves Protection and Repatriation Act (NAGPRA), 25 U.S.C. 3003, of the completion of an inventory of human remains under the control of the Kodiak Historical Society, Kodiak, AK. The human remains were removed from Kizhuyak in Kodiak Island, AK.

This notice is published as part of the National Park Service's administrative responsibilities under NAGPRA, 25 U.S.C. 3003(d)(3). The determinations in this notice are the sole responsibility of the museum that has control of the Native American human remains. The National Park Service is not responsible for the determinations in this notice.

Consultation

A detailed assessment of the human remains was made by the Kodiak Historical Society professional staff in consultation with representatives of the Native Village of Afognak; Native Village of Ouzinkie; Native Village of Port Lions; and the Sun'aq Tribe of Kodiak (previously listed as Shoonaq' Tribe of Kodiak) (hereafter referred to as “The Consulted Villages”).

History and Description of the Remains

In 1959, human remains representing, at minimum, two individuals were removed from the Kizhuyak site in Kodiak Island, AK, by archeologist Donald Clark during an archeological excavation funded by the Kodiak Historical Society. The fragmentary and incomplete skeletal remains are from a prehistoric archeological context and were found with artifacts that represent late prehistoric Alutiiq culture, ca. 2000-400 years BP. As such, these are almost certainly the human remains of Alutiiq ancestors from the period before the Russian arrival. No known individuals were identified. No associated funerary objects are present.

Determinations Made by the Kodiak Historical Society

Professional staff of the Kodiak Historical Society have determined that:

• Pursuant to 25 U.S.C. 3001(9), the human remains described in this notice represent the physical remains of two individuals of Native American ancestry.

• Pursuant to 25 U.S.C. 3001(2), there is a relationship of shared group identity that can be reasonably traced between the Native American human remains and the Native Village of Afognak; Native Village of Ouzinkie; and the Native Village of Port Lions (hereafter referred to as “The Villages”).

Additional Requestors and Disposition

Lineal descendants or representatives of any Indian Tribe or Native Hawaiian organization not identified in this notice that wish to request transfer of control of these human remains should submit a written request with information in support of the request to Kodiak Historical Society dba Kodiak History Museum, 101 E Marine Way, Kodiak, AK 99615, telephone (907) 486-5917, email collections@kodiakhistorymuseum.org or director@kodiakhistorymuseum.org, by October 12, 2022. After that date, if no additional requestors have come forward, transfer of control of the human remains to The Villages may proceed. The Kodiak Historical Society is responsible for notifying The Consulted Villages that this notice has been published.

Dated: September 1, 2022.
Melanie O'Brien,
Manager, National NAGPRA Program.

[FR Doc. 2022-19620 Filed 9-9-22; 8:45 am]

BILLING CODE 4312-52-P